ENVIRONMENTAL PROTECTION AGENCY

[FRL-8215-1]

Adequacy of Michigan's Municipal Solid Waste Landfill Program

AGENCY: Environmental Protection Agency (EPA).

ACTION: Notice of Determination of Adequacy of Michigan's Research, Development, and Demonstration (RD&D) Permit Provisions for Municipal Solid Waste Landfills.

SUMMARY: On March 22, 2004, the U.S. EPA issued final regulations allowing research, development, and demonstration (RD&D) permits to be issued to certain municipal solid waste landfills by approved states (40 CFR 258.4). On May 26, 2006 Michigan submitted an application to the U.S. EPA Region 5 seeking Federal approval of its RD&D requirements per the procedures in 40 CFR 239.12. Michigan's RD&D requirements allow the State to issue research, development and demonstration (RD&D) permits to owners and operators of MSWLF units in accordance with state law. Subject to public review and comment, this notice approves Michigan's RD&D permit requirements.

DATES: This determination of RD&D program adequacy for Michigan will become effective October 30, 2006 unless adverse comments are received on or before October 30, 2006. If adverse comments are received, the U.S. EPA will review those comments and publish another FR document responding to those comments and either affirming or revising the U.S. EPA's initial decision.

ADDRESSES: Written comments should be sent to Ramon Mendoza, Waste Management Branch (Mail Code DW-8J), U.S. EPA Region 5, 77 West Jackson Boulevard, Chicago, IL 60604, telephone: (312) 886-4314. Comments may also be submitted electronically to mendoza.ramon@epa.gov or by facsimile at (312) 353-4788. You may examine copies of Michigan's application and relevant portions of Michigan's regulations during normal business hours at U.S. EPA Region 5.

FOR FURTHER INFORMATION CONTACT: Ramon Mendoza, Waste Management Branch (mail code DW-8J), U.S. EPA Region 5, 77 West Jackson Boulevard, Chicago, Illinois 60604, telephone (312) 886-4314, mendoza.ramon@epa.gov.

SUPPLEMENTARY INFORMATION:

A. Background

On March 22, 2004, EPA issued a final rule amending the municipal solid waste landfill criteria in 40 CFR part 258 to allow for research, development and demonstration (RD&D) permits (69 FR 13242). This rule allows for variances from specified criteria for a limited period of time, to be implemented through state-issued RD&D permits. RD&D permits are available only in states with approved MSWLF permit programs that have been modified to incorporate RD&D permit authority. While States are not required to seek approval for this new provision, those States that are interested in providing RD&D permits to owners and operators of MSWLFs must seek approval from EPA before issuing such permits. Approval procedures for new provisions of 40 CFR Part 258 are outlined in 40 CFR 239.12.

Michigan's MSWLF permit program was approved on April 8, 1997 (62 FR 16804). On May 26, 2006, Michigan applied for approval of its RD&D permit provisions. Michigan submitted its amended laws under Part 115 of Act 451 Sections 324.11511b and 324.11514 for review.

B. Decision

After a thorough review, U.S. EPA Region 5 determined that Michigan's RD&D permit provisions as defined under Part 115 of Act 451 Sections 324.11511b and 324.11514 are adequate to ensure compliance with the Federal criteria as defined at 40 CFR 258.4.

Authority: This action is issued under the authority of section 2002, 4005 and 4010(c) of the Solid Waste Disposal Act, as amended, 42 U.S.C. 6912, 6945 and 6949(a).

Dated: August 15, 2006.
Norman Niedergang,
Acting Regional Administrator, Region 5.

[FR Doc. E6-14453 Filed 8-29-06; 8:45 am]

BILLING CODE 6560-50-P